DEPARTMENT OF VETERANS AFFAIRS

Enhanced-Use Lease of VA Property for the Improvement and Operation of the Memorial Stadium at the Department of Veterans Affairs Medical Center, Chillicothe, OH

AGENCY: Department of Veterans Affairs (VA).

ACTION: Notice of Intent To Enter into an Enhanced-Use Lease.

SUMMARY: The Secretary of the Department of Veterans Affairs (VA) intends to enter into an enhanced-use lease of approximately 4.273 acres of underutilized land and improvements at the VA Medical Center in Chillicothe, Ohio. The selected lessee will finance, preserve, improve, design, build, operate, manage and maintain the property, which includes the VA Memorial Stadium and its accessory facilities (e.g., bleachers, dressing rooms, concession buildings, playground, and a grassy area adjacent to the stadium). As consideration for the lease, the lessee will be required to make annual capital improvements, pay VA fair market annual rent, and allow VA to use the stadium at no cost for mission-related events at least 5 times annually during the lease term. The value of the consideration meets or exceeds the net present value of the property to be leased.

FOR FURTHER INFORMATION CONTACT: Edward Bradley, Office of Asset Enterprise Management (044C), Department of Veterans Affairs, 810 Vermont Avenue, NW., Washington, DC 20420, (202) 461-7778 (this is not a toll-free number).

SUPPLEMENTARY INFORMATION: Title 38 U.S.C. 8161 et seq. states that the Secretary may enter into an enhanced-use lease if he determines that implementation of a business plan proposed by the Under Secretary for Health for applying the consideration under such a lease for the provision of medical care and services would result in a demonstrable improvement of services to eligible veterans in the geographic service-delivery area within which the property is located. This project meets this requirement.

Approved: July 17, 2008.
James B. Peake,
Secretary of Veterans Affairs.

[FR Doc. E8-20373 Filed 9-2-08; 8:45 am]

BILLING CODE 8320-01-P